DEPARTMENT OF LABOR

Employment and Training Administration

Comment Request for Information Collection for ETA 9165, Unemployment Insurance Supplemental Budget Request Activities; New Collection

AGENCY: Employment and Training Administration, Labor.

ACTION: Notice.

SUMMARY: The Department of Labor, as part of its continuing effort to reduce paperwork and respondent burden, conducts a preclearance consultation program to provide the general public and Federal agencies with an opportunity to comment on proposed and/or continuing collection of information in accordance with the Paperwork Reduction Act of 1995 (PRA95) [44 U.S.C. 3506(c)(2)(A)]. This program helps to ensure that requested data can be provided in the desired format, reporting burden (time and financial resources) is minimized, collection instruments are clearly understood, and the impact of collection requirements on respondents can be properly assessed.

Currently, the Employment and Training Administration is soliciting comments concerning the new collection of data on the ETA 9165, Supplemental Budget Request Activities. The new ETA 9165 will be used by the National and regional offices to monitor the progress of State Workforce Agencies in successfully implementing projects funded through Supplemental Budget Requests. This information will include the funded project title and purpose, the project timeline and milestones, and a narrative description of the project implementation status. It will also include explanations of any delays in implementation, proposals for addressing any problems that caused the delay and new project timelines if applicable, a self-reported designation of the implementation status (i.e. complete/ahead of schedule/on schedule/or behind schedule), and a discussion of identified technical assistance needs for the successful completion of the project.

DATES: Submit written comments to the office listed in the addresses section below on or before June 30, 2014.

ADDRESSES: Send written comments to Brad Wiggins, U.S. Department of Labor, Employment and Training Administration, Office of Unemployment Insurance, 200 Constitution Avenue NW., Frances Perkins Bldg. Room S-4524, Washington, DC 20210, telephone number (202) 693-3029 (this is not a toll-free number) or by email: wiggins.brad@dol.gov. Individuals with hearing or speech impairments may access the telephone number above via TTY by calling the toll-free Federal Information Relay Service at 1-877-889-5627 (TTY/TDD). To obtain a copy of the proposed information collection request (ICR), please contact the person listed above.

SUPPLEMENTARY INFORMATION:

I. Background

The new ETA 9165 report will contain information on activities funded by the Employment and Training Administration through Unemployment Insurance Supplemental Budget Requests, including the funded project/activity, the targeted start and completion dates for the project/activity, and the quarterly implementation status. These data are needed for budget preparation and control, program planning and evaluation, personnel assignment, program oversight and assessment, actuarial and program research, and for accounting to Congress and the public.

II. Review Focus

The Department is particularly interested in comments which:

* Evaluate whether the proposed collection of information is necessary to describe the quarterly status of funded Supplemental Budget Request activities, including whether the information will have practical utility;

* Evaluate the accuracy of the agency's estimate of the burden of the proposed collection of information, including the validity of the methodology and assumptions used;

* Enhance the quality, utility, and clarity of the information to be collected; and

* Minimize the burden of the collection of information on those who are to respond, including the use of appropriate automated, electronic, mechanical, or other technological collection techniques or other forms of information technology, e.g., permitting electronic submissions of responses.

III. Current Actions

Type of Review: New collection.

Title: Unemployment Insurance Supplemental Budget Request Activities.

OMB Number: 1205-0NEW.

Affected Public: state governments.

Cite/Reference/Form/etc: ETA 9165.

Estimated Total Annual Respondents: 53.

Annual Frequency: Quarterly.

Estimated Total Annual Responses: 212.

Estimated Total Annual Burden Hours: 1,590 hours.

Total Estimated Annual Other Costs Burden: $0.

Comments submitted in response to this notice will be summarized and/or included in the request for OMB approval of the ICR; they will also become a matter of public record.

Eric M. Seleznow,
Acting Assistant Secretary for Employment and Training, Labor.

[FR Doc. 2014-09749 Filed 4-28-14; 8:45 am]

BILLING CODE 4510-FW-P